DEPARTMENT OF HEALTH AND HUMAN SERVICES

Centers for Disease Control and Prevention

[Docket Numbers NIOSH-083 Supplied Air Respirators, NIOSH 148 Air Fed Ensembles, NIOSH-168 Total Inward Leakage (for respirators other than filtering facepieces and halfmasks)]

Notice of Public Meeting To Discuss NIOSH's Respirator Standards Development Efforts

Authority: 29 U.S.C. 651 et seq.

AGENCY: The National Institute for Occupational Safety and Health (NIOSH) of the Centers for Disease Control and Prevention (CDC), Department of Health and Human Services (HHS).

ACTION: Notice of a public meeting.

SUMMARY: The National Institute for Occupational Safety and Health (NIOSH) of the Centers for Disease Control and prevention (CDC), will conduct a public meeting to discuss current respirator standards development projects for Supplied Air Respirators (SAR); Air Fed Ensembles; and Total Inward Leakage (TIL) for respirators other than filtering facepieces and halfmasks. There will be an opportunity for discussion following NIOSH's presentations and an accompanying poster session.

Public Meeting Time and Date: 8:30 a.m. to 5 p.m., September 17, 2009. On-site registration will be held beginning at 7:45 a.m.

Place: Hyatt Regency Pittsburgh International Airport, 1111 Airport Boulevard, Pittsburgh, PA 15231. Interested parties should make hotel reservations directly with the Hyatt Regency Pittsburgh International Airport by calling (800) 233-1234, before the cut-off date of September 2, 2009. You must reference the NIOSH room block to receive the special group rate of $114.00 per night that has been negotiated for meeting guests.

Status: The meeting will be open to the public, limited only by the space available. The meeting room accommodates approximately 200 people.

Instructions: Requests to make presentations at the public meeting should be mailed to the NIOSH Docket Office, Robert A. Taft Laboratories, MS-C34, 4676 Columbia Parkway, Cincinnati, OH 45226. Requests may also be submitted by telephone (513) 533-8611, facsimile (513) 533-8285, or e-mailed to niocindocket@cdc.gov. All requests to present should contain the name, address, telephone number, and relevant business affiliations of the presenter, topic of the presentation, and the approximate time requested for the presentation. Oral presentations should be limited to 15 minutes.

After reviewing the requests for presentations, NIOSH will notify the presenter that his/her presentation is scheduled. If a participant is not present when their presentation is scheduled to begin, the remaining participants will be heard in order. At the conclusion of the meeting, an attempt will be made to allow presentations by any scheduled participants who missed their assigned times. Attendees who wish to speak but did not submit a request for the opportunity to make a presentation may be given this opportunity at the conclusion of the meeting, at the discretion of the presiding officer.

This meeting will also be using Audio/LiveMeeting Conferencing, remote access capabilities where interested parties may listen in and review the presentations over the internet simultaneously. Parties remotely accessing the meeting will have the opportunity to ask questions during the open comment period. To register to use this capability, please contact the National Personal Protective Technology Laboratory(NPPTL), Policy and Standards Development Branch, Post Office Box 18070, 626 Cochrans Mill Road, Pittsburgh, PA 15236, telephone (412) 386-5200, facsimile (412) 386-4089. This option will be available to participants on a first come, first serve basis and is limited to the first 50 participants.

Background: NIOSH, National Personal Protective Technology Laboratory (NPPTL), will present information to attendees concerning the development of the concepts being considered regarding updated performance criteria for the various classes of respirators in 42 Code of Federal Regulations, Part 84. Participants will be given an opportunity to ask questions and to present individual comments that they may wish to have considered.

FOR FURTHER INFORMATION CONTACT: Jonathan Szalajda, NPPTL, Policy and Standards Development Branch, Post Office Box 18070, 626 Cochrans Mill Road, Pittsburgh, PA 15236, telephone (412) 386-5200, facsimile (412) 386-4089, E-mail npptlevents@cdc.gov.

Reference: Information regarding documents that will be discussed at the meeting may be obtained from the NIOSH Web site using the following link: http://www.cdc.gov/niosh/review/public/using the docket numbers listed in this notice.

Dated: June 5,2009.
James D. Seligman,
Chief Information Officer, Centers for Disease Control and Prevention.

[FR Doc. E9-14085 Filed 6-15-09; 8:45 am]

BILLING CODE 4163-19-P